DEPARTMENT OF COMMERCE

National Oceanic and Atmospheric Administration

Notice of Web Site Publication

AGENCY: Office of Oceanic and Atmospheric Research (OAR), National Oceanic and Atmospheric Administration (NOAA), Commerce (DOC).

ACTION: Notice of Web site publication.

SUMMARY: Notice is hereby given of public access via http://www.climate.noaa.gov to information pertaining to an upcoming Climate Program Office solicitation of grant proposals.

SUPPLEMENTARY INFORMATION: On or about 10 days after publication of this notice, detailed information pertaining to Climate Program Office research strategies, objectives, and priorities, will be available. These program priorities represent a contribution to national and international programs designed to improve our ability to observe, understand, predict, and respond to changes in the global environment.

FOR FURTHER INFORMATION CONTACT: Eric Locklear; Chief, Administrative Services Division; Climate Program Office, Office of Oceanic & Atmospheric Research (301) 734-1236.

Dated: May 4, 2009.
Mark E. Brown,
Chief Financial Officer, Office of Oceanic and Atmospheric Research, National Oceanic and Atmospheric Administration.

[FR Doc. E9-10932 Filed 5-8-09; 8:45 am]

BILLING CODE 3510-KB-P